NATIONAL COUNCIL ON DISABILITY

Sunshine Act Meetings

Type: Quarterly Meeting “Teleconference Call.”

Date and Time: September 5, 2007, 12 p.m.-2 p.m.

Location: National Council on Disability, 1331 F St., NW., Suite 850, Washington, DC 20004.

Status: September 5, 2007, 12 p.m.-2 p.m.—Open.

Agenda: Opening Remarks, Discussion of Budget Planning for Fiscal Year 2009, Closing Remarks.

Sunshine Act Meeting Contact: Mark S. Quigley, Director of Communications, NCD, 1331 F Street, NW., Suite 850, Washington, DC 20004; 202-272-2004 (voice), 202-272-2074 (TTY), 202-272-2022 (fax).

Agency Mission: NCD is an independent federal agency and is composed of 15 members appointed by the President, by and with the advice and consent of the Senate. NCD provides advice to the President, Congress, and executive branch agencies promoting policies, programs, practices, and procedures that guarantee equal opportunity for all people with disabilities, regardless of the nature or severity of the disability; and to empower people with disabilities to achieve economic self-sufficiency, independent living, and inclusion and integration into all aspects of society.

Accommodations: Those needing reasonable accommodations should notify NCD immediately.

Language Translation: In accordance with E.O. 13166, Improving Access to Services for Persons with Limited English Proficiency, those people with disabilities who are limited English proficient and seek translation services for these meetings should notify NCD immediately.

Dated: August 10, 2007.
Michael C. Collins,
Executive Director.

[FR Doc. 07-4031 Filed 8-14-07; 12:11 pm]

BILLING CODE 6820-MA-P